RECOVERY ACCOUNTABILITY AND TRANSPARENCY BOARD

4 CFR Part 202

RIN 0430-AA02

Official Seal

AGENCY: Recovery Accountability and Transparency Board.

ACTION: Direct final rule.

SUMMARY: The Recovery Accountability and Transparency Board (Board) is adopting regulations to establish its chapter and to adopt requirements on the use of its official seal. Use by any person or organization may be made only with the Board's prior written approval. Wrongful use of an official seal is subject to administrative action and/or criminal penalty.

The Board believes that this rule is non-controversial, and the Board anticipates no significant adverse comment. If the Board receives a significant adverse comment, it will withdraw the rule.

DATES: This rule is effective September 3, 2009 without further action, unless adverse comment is received by August 24, 2009. If adverse comment is received, the Board will publish a timely withdrawal of the rule in the Federal Register.

ADDRESSES: You may submit comments by Mail/Hand Delivery/Courier: Jennifer Dure, Office of General Counsel, Recovery Accountability and Transparency Board, 1717 Pennsylvania Avenue, NW., Suite 700, Washington, DC 20006.

FOR FURTHER INFORMATION CONTACT: Kristen Fernandez, Records Manager, telephone (202) 254-7900.

SUPPLEMENTARY INFORMATION: The Board is adopting regulations (4 CFR part 202) on the use of its official seal. The Board has developed a seal that signifies the authoritativeness of the item or document to which it is affixed as an official endorsement of the Board. The seal is to be used for official Board business or as approved under the Board's regulations.

The Board believes there is good cause to bypass notice and comment and proceed to a direct final rule pursuant to 5 U.S.C. 553(b). The rule is non-controversial and merely provides who may use the Board's official seal and for what purpose. Because this rule only impacts Board procedure and practice, notice and comment is unnecessary. Although the Board believes this direct final rule will not elicit any significant adverse comments, if such comments are received, the Board will publish a timely notice of withdrawal in the Federal Register.

Executive Order No. 12866

This rule does not meet the criteria for a significant regulatory action under Executive Order 12866. Thus, review by the Office of Management and Budget is not required.

Regulatory Flexibility Act

This rule will not have a significant economic impact on a substantial number of small entities. Therefore, a regulatory flexibility analysis as provided by the Regulatory Flexibility Act, as amended, is not required.

Paperwork Reduction Act

This rule imposes no additional reporting and recordkeeping requirements. Therefore, clearance by the Office of Management and Budget is not required.

List of Subjects in 4 CFR Part 202

Official seal.

Therefore, under the authority at Public Law 111-5, 123 Stat. 115 (2009), the Board amends Title 4 of the Code of Federal Regulations by establishing a new Chapter II, consisting of Part 202 to read as follows:

CHAPTER II—RECOVERY ACCOUNTABILITY AND TRANSPARENCY BOARD

PART 202—OFFICIAL SEAL

Sec.
202.1 Description.
202.2 Authority to affix seal.
202.3 Prohibitions against misuse of seal.

Authority: 5 U.S.C. 301, 18 U.S.C. 506.

§ 202.1 Description.

(a) The official seal of the Recovery Accountability and Transparency Board (Board) is described as follows: The American Eagle, right facing, with left wing outstretched and pointing forward with right wing partially shown, is superimposed over a background suggesting the American Flag; upon a blue field, which fills background space above the Eagle's outstretched wing, are thirteen gold, five-pointed stars; the lower half of the background, filling the space beneath the Eagle's outstretched wing, is vertically striped in alternating colors of red and gold. The entire image is circumscribed by a gold boundary with 18 equally spaced “gear” teeth; that image is further encircled by a ring bearing the gold-colored words “RECOVERY ACCOUNTABILITY AND TRANSPARENCY” centered at its top, and the word “BOARD” is centered at its bottom and separated from the top-centered words by two laurel branches to its left and right.

(b) The Board also has developed an alternate, monochromatic version of the seal in which the above-described blue field and red-and-gold stripes are replaced by a white field and white-and-gold stripes. A reproduction of the official seal in black and white appears as follows:

§ 202.2 Authority to affix seal.

(a) The following officials of the Board are authorized to affix the official seal (including reproductions) to appropriate documents, certifications, and other materials of the Board: The Chairman and all Members, the Executive Director, the General Counsel, and the Directors.

(b) The officials named in paragraph (a) of this section may delegate this authority as appropriate.

§ 202.3 Prohibitions against misuse of seal.

(a) Falsely making, forging, counterfeiting, mutilating, or altering the Board seal or reproduction, or knowingly using or possessing with fraudulent intent an altered Board seal or reproduction is punishable under 18 U.S.C. 506.

(b) Any person using the Board seal or reproduction in a manner inconsistent with the provisions of this part is subject to the provisions of 18 U.S.C. 1017, which states penalties for the wrongful use of an official seal, and other provisions of law as applicable.

Ivan J. Flores,
Paralegal Specialist, Recovery Accountability and Transparency Board.

[FR Doc. E9-18509 Filed 8-3-09; 8:45 am]

BILLING CODE 6820-GA-P